DEPARTMENT OF THE INTERIOR

Bureau of Land Management

[CACA-48649, LLCAD06000 L51010000 ER0000 LVRWB09B2490]

Notice of Availability of the Record of Decision for the Desert Sunlight Holdings, LLC, Desert Sunlight Solar Farm (DSSF) and California Desert Conservation Area Plan Amendment, California

AGENCY: Bureau of Land Management, Interior.

ACTION: Notice of availability.

SUMMARY: The Bureau of Land Management (BLM) announces the availability of the Record of Decision (ROD)/Approved Amendment to the California Desert Conservation Area (CDCA) Plan, the applicable Resource Management Plan (RMP) for the project site and the surrounding areas, located in the California Desert District. The Secretary of the Interior approved the ROD on August 9, 2011, which constitutes the final decision of the Department.

ADDRESSES: Copies of the ROD/Approved Amendment to the CDCA Plan are available upon request from the Field Manager, Palm Springs—South Coast Field Office, Bureau of Land Management, 1201 Bird Center Drive, Palm Springs, California 92262, or via the Internet at the following Web site: http://www.blm.gov/ca/st/en/fo/palmsprings.html.

FOR FURTHER INFORMATION CONTACT: Allison Shaffer, BLM Project Manager; telephone (760) 833-7100; through mail at the address above; or e-mail Allison_Shaffer@blm.gov.

SUPPLEMENTARY INFORMATION: Desert Sunlight Holdings, LLC, a wholly owned subsidiary of First Solar, Inc., filed right-of-way (ROW) application CACA-48649 for the Desert Sunlight Solar Farm Project (DSSF). The DSSF is a solar photovoltaic (PV) facility, capable of producing 550 MW of electrical output. Southern California Edison (SCE) filed a ROW application to construct the 500-to-220 kiloVolt (kV) RedBluff substation (CACA-052682) where the project would interconnect with the SCE regional transmission system. The DSSF, along with the RedBluff Substation and other facilities, will be on 4,144 acres of BLM-managed lands approximately 6 miles north of Interstate-10 and the rural community of Desert Center in Riverside County, California. The project area is within 2 miles of Joshua Tree National Park. In addition to the project site, the project includes a distribution line, a 220-kV electrical gen-tie transmission line, fiber optic lines, and an access road. The RedBluff substation includes an access road and two offsite microwave telecommunication facilities. The gen-tie line will feed power into SCE's existing Devers-Palo Verde 1 500-kV transmission line.

The project site is in the California Desert District within the planning boundary of the CDCA Plan, which is the applicable RMP for the project site and the surrounding areas. The CDCA Plan, while recognizing the potential compatibility of solar generation facilities on public lands, requires that all sites associated with power generation or transmission not already identified in the Plan be considered through the BLM's land use plan amendment process. As a result, prior to approval of a ROW grant to the DSSF, the BLM must amend the CDCA Plan to allow the solar generating project on that site The approved Amendment to the CDCA Plan specifically revises the CDCA Plan to allow for the development of the DSSF and ancillary facilities on land managed by the BLM.

The BLM preferred Alternative would result in construction of the solar farm, capable of generating approximately 550 MW of electricity, the RedBluff Substation, and associated ancillary facilities. This 550-MW alternative and substation were evaluated in the Final Environmental Impact Statement (EIS). The Notice of Availability of the Final EIS for the DSSF, RedBluff Substation, and the proposed CDCA Plan amendment was published in the Federal Register on April 15, 2011 (76 FR 21402).

Publication of the Notice of Availability for the Final EIS initiated a 30-day protest period for the proposed amendment to the CDCA Plan. At the close of the 30-day period on May 16, 2011, seven timely and complete written protests were received and resolved. Their resolution is summarized in the Director's Protest Summary Report attached to the ROD. The proposed amendment to the CDCA Plan was not modified as a result of the protest resolution. Simultaneously with the protest period, the Governor of California conducted a 30-day consistency review of the proposed CDCA Plan amendment to identify any inconsistencies with State or local plan, policies or programs; no inconsistencies were identified.

Because this decision is approved by the Secretary of the Interior, it is not subject to administrative appeal (43 CFR, 4.410(a)(3)).

Authority: 40 CFR 1506.6.

Robert V. Abbey,
Director, Bureau of Land Management.

[FR Doc. 2011-20671 Filed 8-12-11; 8:45 am]

BILLING CODE 4310-40-P